ENVIRONMENTAL PROTECTION AGENCY

[FRL-8288-2]

Proposed Consent Decree Clean Air Act Citizen Suit

AGENCY: Environmental Protection Agency (EPA).

ACTION: Notice of proposed consent decree; request for public comment.

SUMMARY: In accordance with section 113(g) of the Clean Air Act, as amended (“Act”), 42 U.S.C. 7413(g), notice is hereby given of a proposed consent decree, to address a lawsuit filed by the Sierra Club: Sierra Club v. The United States Environmental Protection Agency, No. CV 06-00663 BB(LFG) (District of New Mexico). On or about July 26, 2006, Sierra Club filed a complaint alleging that EPA had failed to perform a non-discretionary duty and had unreasonably delayed publication of a final rule, known as a Federal Implementation Plan (“FIP”), regulating air emissions from the Four Corners Power Plant (“FCPP”). Under the terms of the proposed consent decree, a deadline of April 30, 2007, is established for EPA to take final action on the FIP proposed by EPA on September 12, 2006.

DATES: Written comments on the proposed consent decree must be received by April 16, 2007.

ADDRESSES: Submit your comments, identified by Docket ID number EPA-HQ7-OGC-2007-0194, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above. Please provide a separate copy of your comments to the person identified in the For Further Information Contact section of this notice.

FOR FURTHER INFORMATION CONTACT: Richard H. Vetter, c/o Cheryl Graham Air and Radiation Law Office (2344A), Office of General Counsel, U.S. Environmental Protection Agency, 1200 Pennsylvania Ave., NW., Washington, DC 20460; telephone: (919) 541-2127; fax number (919) 541-4991; email address: vetter.rick@epa.gov.

SUPPLEMENTARY INFORMATION:

I. Additional Information About the Proposed Consent Decree

The proposed consent decree would resolve the suit filed by Sierra Club alleging that EPA had a non-discretionary duty and had unreasonably delayed finalizing a FIP regulating air emissions from FCPP.

The background to Sierra Club's Complaint is that EPA had proposed a FIP in 1999 for FCPP, see 64 FR 48731 (September 8, 1999), but by 2006 had not taken final action on the 1999 proposed FIP. Shortly after 1999, FCPP began negotiations with EPA, Navajo Nation EPA, the National Park Service and several environmental groups (not including Sierra Club). Between 2003 and 2005, FCPP tested changes to its SO2 control devices that increased the overall control efficiency of these control devices.

EPA proposed a new FIP for FCPP on September 12, 2006 that, among other things, reflected the increase in efficiency of the SO2 control devices at the facility. 71 FR 53631. The proposed consent decree provides that on or before April 30, 2007, EPA will take final action on the FIP we proposed on September 12, 2006.

On December 14, 2006, the parties filed with the Court a notice of lodging of the proposed consent decree. The notice informed the Court of the decree but noted that the decree was not ready for entry as it is subject to the requirements of section 113(g) of the Clean Air Act.

For a period of thirty (30) days following the date of publication of this notice, the Agency will receive written comments relating to the proposed consent decree from persons who were not named as parties to the litigation in question. EPA or the Department of Justice may withdraw or withhold consent to the proposed consent decree if the comments disclose facts or considerations that indicate that such consent is inappropriate, improper, inadequate, or inconsistent with the requirements of the Act. Unless EPA or the Department of Justice determines, based on any comment which may be submitted, that consent to the consent decree should be withdrawn, the terms of the decree will be affirmed.

II. Additional Information About Commenting on the Proposed Consent Decree

A. How Can I Get a Copy of the Consent Decree?

The official public docket for this action (identified by Docket ID No. EPA7-HQ-OGC-2007-0194) contains a copy of the proposed consent decree. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through www.regulations.gov, your e-mail address is automatically captured and included as part of the comment that is placed in the official public docket, and made available in EPA's electronic public docket.

Dated: March 8, 2007.
Richard B. Ossias,
Associate General Counsel.

[FR Doc. E7-4778 Filed 3-14-07; 8:45 am]

BILLING CODE 6560-50-P